FEDERAL COMMUNICATIONS COMMISSION

[FR ID 87793]

Open Commission Meeting Thursday, May 19, 2022

May 12, 2022.

The Federal Communications Commission will hold an Open Meeting on the subjects listed below on Thursday, May 19, 2022, which is scheduled to commence at 10:30 a.m.

Due to the current COVID-19 pandemic and related agency telework and headquarters access policies, this meeting will be in an electronic format and will be open to the public only on the internet via live feed from the FCC's web page at www.fcc.gov/live and on the FCC's YouTube channel.

Item No. | Bureau | Subject
1 | Consumer & Governmental Affairs and Wireline Competition | Title: Combatting Illegal Robocalls (CG Docket No. 17-59); Call Authentication Trust Anchor (WC Docket No. 17-97). Summary: The Commission will consider a Report and Order, Order on Reconsideration, and Further Notice of Proposed Rulemaking addressing foreign-originated and other illegal robocalls from multiple angles.
2 | Wireline Competition | Title: Expanding Broadband Service Through the A-CAM Program (WC Docket No. 10-90); ETC Annual Reports and Certifications (WC Docket No. 14-58); Telecommunications Carriers Eligible to Receive Universal Service Support (WC Docket No. 09-197); Connect America Fund—Alaska Plan (WC Docket No. 16-271). Summary: The Commission will consider a Notice of Proposed Rulemaking seeking comment on a proposal by the ACAM Broadband Coalition to achieve widespread deployment of 100/20 Mbps broadband service throughout the rural areas served by carriers currently receiving Alternative Connect America Model support, and proposing targeted modifications to the Commission's rules to improve the efficiency and efficacy of the high-cost program.
3 | Public Safety & Homeland Security | Title: Modernizing Priority Services for National Security and Emergency Response (PS Docket No. 20-187). Summary: The Commission will consider a Report and Order that would update and streamline its rules providing priority provision and restoration of service for national security and emergency response users.
4 | Media | Title: Updating FM Radio Directional Antenna Verification (MB Docket No. 21-422). Summary: The Commission will consider a Report and Order to allow applicants proposing directional FM antennas the option of verifying the directional antenna pattern through computer modeling.
5 | Enforcement | Title: Enforcement Bureau Action. Summary: The Commission will consider an enforcement action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2022-10915 Filed 5-19-22; 8:45 am]

BILLING CODE 6712-01-P